COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and a service to the Procurement List that will be furnished by nonprofit agencies employing persons who are blind or have other severe disabilities, and deletes products from the Procurement List previously furnished by such agencies.

DATES: Effective Date: 8/7/2014

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 5/16/2014 (79 FR 28490-28491); 5/30/2014 (79 FR 31095-31096); and 6/6/2014 (79 FR 32716-32718), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 USC 8501-8506) in connection with the products and service proposed for addition to the Procurement List.

End of Certification

Accordingly, the following products and service are added to the Procurement List:

Products

NSN: 5340-00-NIB-0080—Desktop/Notebook Security Cable, Master-Coded Combination Lock Kit, 20 Lock Kits

NSN: 5340-00-NIB-0082—Desktop/Notebook Security Cable, Master-Keyed Lock Kit, 10 Lock Kits

NPA: Alphapointe, Kansas City, MO

Contracting Activity: Defense Logistics Agency Troop Support, Philadelphia, PA

Coverage: A-List for the Total Government Requirement as aggregated by the Defense Logistics Agency Troop Support, Philadelphia, PA

NSN: 7920-00-NIB-0570—Broom, Sweeping, Extra-Rough Surface, 24″ Block with 60″ Handle

NSN: 7920-00-NIB-0571—Broom, Sweeping, Smooth Surface, 24″ Block with 60″ Handle

NSN: 7920-00-NIB-0572—Broom, Sweeping, Medium Surface, 24″ Block with 60″ Handle

NPA: Industries for the Blind, Inc., West Allis, WI

Contracting Activity: General Services Administration, Fort Worth, TX

Coverage: B-List for the Broad Government Requirement as aggregated by the General Services Administration, Fort Worth, TX

Service

Service Type/Location: Kennel Caretaker Service, U.S. Customs and Border Protection, Kennel Facility, Ft Buchanan, Bldg 295, Guaynabo, PR.

NPA: The Corporate Source, Inc., New York, NY

Contracting Activity: Dept of Homeland Security, U.S. Customs and Border Protection, Border Enforcement Contracting Division, Washington, DC

Deletions

On 5/23/2014 (79 FR 29747), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 USC 8501-8506) in connection with the products deleted from the Procurement List.

End of Certification

Accordingly, the following products are deleted from the Procurement List:

Products

Cord Assembly, Elastic

NSN: 4020-01-072-4557

NSN: 4020-01-072-4558

NPA: Alpha Opportunities, Inc., Jamestown, ND

Contracting Activity: Defense Logistics Agency Troop Support, Philadelphia, PA

Glove, Powder Free

NSN: 6515-00-NIB-0555—Protegrity Smt

NSN: 6515-00-NIB-0556—Protegrity Smt

NSN: 6515-00-NIB-0557—Protegrity Smt

NSN: 6515-00-NIB-0558—Protegrity Smt

NSN: 6515-00-NIB-0559—Protegrity Smt

NSN: 6515-00-NIB-0560—Protegrity Smt

NSN: 6515-00-NIB-0561—Protegrity Smt

NSN: 6515-00-NIB-0562—Protegrity Smt

NSN: 6515-00-NIB-0563—Protegrity Micro Smt

NSN: 6515-00-NIB-0564—Protegrity Micro Smt

NSN: 6515-00-NIB-0565—Protegrity Micro Smt

NSN: 6515-00-NIB-0566—Protegrity Micro Smt

NSN: 6515-00-NIB-0567—Protegrity Micro Smt

NSN: 6515-00-NIB-0568—Protegrity Micro Smt

NSN: 6515-00-NIB-0569—Protegrity Micro Smt

NSN: 6515-00-NIB-0570—Protegrity Micro Smt

NPA: Bosma Industries for the Blind, Inc., Indianapolis, IN

Contracting Activity: Department of Veterans Affairs, NAC, Hines, IL

Mattress, High Density Lumbar

NSN: 7210-00-NIB-0060

NSN: 7210-00-NIB-0061

NPA: RLCB, Raleigh, NC

Contracting Activity: Dept. of the Army, W40M Northeregion Contract Ofc, Fort Belvoir, VA

Folder, File

NSN: 7530-00-NSH-0073

NSN: 7530-00-NSH-0074

NSN: 7530-00-NSH-0075

NSN: 7530-00-NSH-0076

NSN: 7530-00-NSH-0077

NSN: 7530-00-NSH-0078

NSN: 7530-00-NSH-0079

NSN: 7530-00-NSH-0080

NSN: 7530-00-NSH-0081

NSN: 7530-00-NSH-0082

NPA: Goodwill Industries of the Pioneer Valley, Inc., Springfield, MA

Contracting Activity: General Services Administration, New York, NY

Hydramax Hydration System

NSN: 8465-01-525-1559—Alpha, UCP, 120 oz

NSN: 8465-01-524-2144—Mustang, UCP, 120 oz

NSN: 8465-01-524-2761—Mustang, Black, 120 oz

NSN: 8465-01-524-2764—Replacement Parts, Alpha and Mustang, 120 oz

NPA: The Lighthouse for the Blind, Inc. (Seattle Lighthouse), Seattle, WA

Contracting Activity: General Services Administration, Fort Worth, TX

Barry S. Lineback,
Director, Business Operations.

[FR Doc. 2014-15745 Filed 7-3-14; 8:45 am]

BILLING CODE 6353-01-P